DEPARTMENT OF ENERGY

5 CFR Chapters XXIII and XXIV

10 CFR Chapters II, III, and X

18 CFR Chapter I

41 CFR Chapter 109

48 CFR Chapter 9

Reducing Regulatory Burden; Retrospective Review Under E.O. 13563

AGENCY: Office of the General Counsel, Department of Energy.

ACTION: Request for information; extension of public comment period.

SUMMARY: On February 3, 2011, the Department of Energy (DOE) published a request for information (RFI) issued as part of its implementation of Executive Order 13563, “Improving Regulation and Regulatory Review.” This document announces that the period for submitting reply comments is extended to April 15, 2011. The February 3 document incorrectly published in the Notices section of the Federal Register.

DATES: DOE will accept comments, data, and information regarding the RFI received no later than April 15, 2011.

ADDRESSES: Interested persons are encouraged to submit comments, identified by “Regulatory Burden RFI,” by any of the following methods:

Federal eRulemaking Portal: http://www.regulations.gov. Follow the instructions for submitting comments.

E-mail: Regulatory.Review@hq.doe.gov. Include “Regulatory Burden RFI” in the subject line of the message.

Mail: U.S. Department of Energy, Office of the General Counsel, 1000 Independence Avenue, SW., Room 6A245, Washington, DC 20585.

Docket: For access to the docket to read background documents or comments received, go to the Federal eRulemaking Portal at http://www.regulations.gov.

FOR FURTHER INFORMATION CONTACT: Daniel Cohen, Assistant General Counsel for Legislation, Regulation, and Energy Efficiency, U.S. Department of Energy, Office of the General Counsel, 1000 Independence Avenue, SW., Washington, DC 20585. E-mail: Regulatory.Review@hq.doe.gov.

SUPPLEMENTARY INFORMATION: On January 18, 2011, the President issued Executive Order 13563, “Improving Regulation and Regulatory Review,” to ensure that Federal regulations seek more affordable, less intrusive means to achieve policy goals, and that agencies give careful consideration to the benefits and costs of those regulations. Additionally, the Executive Order directs agencies to consider how best to promote retrospective analyses of existing rules. Specifically, Agencies must develop a preliminary plan under which the agency will periodically review existing regulations to determine which should be maintained, modified, strengthened, or repealed to increase the effectiveness and decrease the burdens of the agency's regulatory program.

DOE took a number of steps to implement the Executive Order, including issuance of an RFI seeking public comment on how best to review its existing regulations and to identify whether any of its existing regulations should be modified, streamlined, expanded, or repealed. (76 FR 6123, Feb. 3, 2011) DOE sought comment on the RFI until March 21, 2011, and allowed for reply comments to be filed until April 4, 2011. DOE posted comments received during the initial comment period on its Web site: http://www.gc.energy.gov/1705.htm, but encountered technical difficulties and was unable to post all of the comments until March 30, 2011. DOE also received a request from a member of the public to extend the reply comment period given these technical difficulties. As a result, in this notice, DOE extends the reply comment period until April 15, 2011. While the intent of the reply comment period is to foster constructive dialogue on DOE's regulatory review process, DOE notes that it is not necessary to have filed comments during the initial comment period to file reply comments, and that the substance of comments filed during the reply comment period need not relate to comments filed during the initial comment period. DOE will consider any comments received by April 15, 2011 and deems any comments received between March 21, 2011 and April 15, 2011 to be timely submitted.

Issued in Washington, DC, on March 31, 2011.
Sean A. Lev,
Acting General Counsel.

[FR Doc. 2011-8228 Filed 4-5-11; 8:45 am]

BILLING CODE 6450-01-P